DEPARTMENT OF COMMERCE

Bureau of Industry and Security

[Docket No. 250226-0028]

XRIN 0694-XC113

Implementation of Duties on Aluminum Pursuant to Proclamation 10895 Adjusting Imports of Aluminum Into the United States

AGENCY: Bureau of Industry and Security, Department of Commerce.

ACTION: Notice.

SUMMARY: The President issued Proclamation 10895 “Adjusting Imports of Aluminum into the United States,” (Aluminum Presidential Proclamation) on February 10, 2025, imposing specified rates of duty on imports of aluminum. In Proclamation 10895, the President authorized and directed the Secretary of Commerce to publish modifications to the Harmonized Tariff Schedule of the United States (HTSUS) so that it conforms to the amendments and effective dates in the proclamation. The revised HTSUS is set out in Annex 1 to this notice.

DATES: The duties set out in the annex to this document are effective with respect to certain products that are entered for consumption, or withdrawn from warehouse for consumption, on or after 12:01 a.m. Eastern Standard Time on March 12, 2025.

SUPPLEMENTARY INFORMATION:

Background

On February 10, 2025, the President issued the Aluminum Presidential Proclamation adjusting the imports of aluminum into the United States (Proclamation 10895 of February 10, 2025) (90 FR 9807). The Aluminum Presidential Proclamation instructed the United States International Trade Commission, in consultation with the Secretary of Commerce, the Commissioner of United States Customs and Border Protection (CBP) within the Department of Homeland Security, and the heads of other relevant executive departments and agencies, to revise the HTSUS so that it conforms to the amendments and effective dates directed in the Aluminum Presidential Proclamation within ten days of the issuance of the Proclamation. The Proclamation directed and authorized the Secretary of Commerce to publish any such modifications to the HTSUS in the Federal Register. Annex 1 to this notice is the modified HTSUS.

Note that importers are required to report to U.S. Customs and Border Protection (CBP) the primary country of smelt, secondary country of smelt, and country of cast on imports of all aluminum articles subject to the aluminum and aluminum derivatives Section 232 measures. Monitor CBP's Cargo Systems Messaging Service for guidance on entry filing requirements.

Eric Longnecker,
Deputy Assistant Secretary for Technology Security.

Annex 1

A. Effective with respect to goods entered for consumption, or withdrawn from warehouse for consumption, on or after 12:01 a.m. eastern daylight time on March 12, 2025, except for subdivision (k) which shall be effective upon public notification of the Secretary of Commerce:

a. The following new subdivisions (f) through (m) are inserted in note 19 to subchapter III of chapter 99 of the Harmonized Tariff Schedule of the United States (HTSUS) in numerical order:

“(f) Heading 9903.85.02 provides the ordinary customs duty treatment applicable to all entries of aluminum products, as enumerated in subdivision (g) of this note, of all countries other than products of the United States. For any such products that are eligible for special tariff treatment under any of the free trade agreements or preference programs listed in general note 3(c)(i) to the tariff schedule, the duty provided in heading 9903.85.02 shall be collected in addition to any special rate of duty otherwise applicable under the appropriate tariff subheading. Goods for which entry is claimed under a provision of chapter 98 and which are subject to the additional duties prescribed herein shall be eligible for and subject to the terms of such provision and applicable U.S. Customs and Border Protection (“CBP”) regulations, except that duties under subheading 9802.00.60 shall be assessed based upon the full value of the imported article. No claim for entry or for any duty exemption or reduction shall be allowed for the aluminum products enumerated in subdivision (g) of this note under a provision of chapter 99 that may set forth a lower rate of duty or provide duty-free treatment, taking into account information supplied by CBP, but any additional duty prescribed in any provision of this subchapter or subchapter IV of chapter 99 shall be imposed in addition to the duty in heading 9903.85.02. All antidumping, countervailing, or other duties and charges applicable to such goods shall continue to be imposed in addition to the duty in heading 9903.85.02.

“(g) The rates of duty set forth in heading 9903.85.02 apply to all entries of aluminum products classifiable in the headings and subheadings enumerated in this subdivision:

(i) unwrought aluminum provided for in heading 7601;

(ii) bars, rods and profiles provided for in heading 7604;

(iii) wire provided for in heading 7605;

(iv) plates, sheets and strip provided for in 7606;

(v) foil provided for in heading 7607;

(vi) tubes, pipes and tube or pipe fittings provided for in heading 7608 and 7609; and

(vii) castings and forgings of aluminum provided for in subheading 7616.99.51.

“Any reference above to aluminum products classifiable in any heading or subheading of chapter 76, as the case may be, shall mean that any good provided for in the article description of such heading or subheading and of all its subordinate provisions (both legal and statistical) is covered by the provisions of this note and related tariff provisions.

“(h) Headings 9903.85.04, 9903.85.07 and 9903.85.08 provide the ordinary customs duty treatment applicable to all entries of derivative aluminum products from all countries classifiable in the headings or subheadings enumerated in subdivisions (i), (j) and (k), respectively, of this note. For any such derivative aluminum products that are eligible for special tariff treatment under any of the free trade agreements or preference programs listed in general note 3(c)(i) to the tariff schedule, the duty provided in such subheadings shall be collected in addition to any special rate of duty otherwise applicable under the appropriate tariff subheading. Derivative aluminum products for which entry is claimed under a provision of chapter 98 and which are subject to the additional duties prescribed herein shall be eligible for and subject to the terms of such provisions and applicable CBP regulations, except that duties under subheading 9802.00.60 shall be assessed based upon the full value of the imported article. No claim for entry or for any duty exemption or reduction shall be allowed for such derivative aluminum products under a provision of chapter 99 that may set forth a lower rate of duty or provide duty-free treatment, taking into account information supplied by CBP, but any additional duty prescribed in any provision of this subchapter or subchapter IV of chapter 99 shall be imposed in addition to the duty in headings 9903.85.04, 9903.85.07 or 9903.85.08. All anti-dumping, countervailing, or other duties and charges applicable to such goods shall continue to be imposed.

“(i) The rates of duty set forth in heading 9903.85.04 apply to all entries of derivative aluminum products classifiable in the subheadings enumerated in this subdivision:

(A) stranded wire, cables, plaited bands and the like, including slings and similar articles, of aluminum and with steel core, not electrically insulated; the foregoing fitted with fittings or made up into articles (described in subheading 7614.10.50);

(B) stranded wire, cables, plaited bands and the like, including slings and similar articles, of aluminum and not with steel core, not electrically insulated; the foregoing comprising electrical conductors, not fitted with fittings or made up into articles (described in subheading 7614.90.20);

(C) stranded wire, cables, plaited bands and the like, including slings and similar articles, of aluminum and not with steel core, not electrically insulated; the foregoing not comprising electrical conductors, not fitted with fittings or made up into articles (described in subheading 7614.90.40);

(D) stranded wire, cables, plaited bands and the like, including slings and similar articles, of aluminum and not with steel core, not electrically insulated; the foregoing fitted with fittings or made up into articles (described in subheading 7614.90.50);

(E) bumper stampings of aluminum, the foregoing comprising parts and accessories of the motor vehicles of heading 8701 to 8705 (described in subheading 8708.10.30); and

(F) body stampings of aluminum, for tractors suitable for agricultural use (described in subheading 8708.29.21).

“(j) The rates of duty set forth in heading 9903.85.07 apply to all entries of derivative aluminum products classifiable in the following provisions of the HTSUS, unless the derivative aluminum product was processed in another country from aluminum articles that were smelted and cast in the United States: 7610.10.00; 7610.90.00; 7615.10.2015; 7615.10.2025; 7615.10.3015; 7615.10.3025; 7615.10.5020; 7615.10.5040; 7615.10.7125; 7615.10.7130; 7615.10.7155; 7615.10.7180; 7615.10.9100; 7615.20.0000; 7616.10.9090: 7616.99.1000; 7616.99.5130; 7616.99.5140; 7616.99.5190.

“(k) The rates of duty in heading 9903.85.08 apply to all entries of derivative aluminum products classifiable in the following HTSUS provisions, unless the derivative aluminum product was processed in another country from aluminum articles that were smelted and cast in the United States: 6603.90.8100; 8302.10.3000; 8302.10.6030; 8302.10.6060; 8302.10.6090; 8302.20.0000; 8302.30.3010; 8302.30.3060; 8302.41.3000; 8302.41.6015; 8302.41.6045; 8302.41.6050; 8302.41.6080; 8302.42.3010; 8302.42.3015; 8302.42.3065; 8302.49.6035; 8302.49.6045; 8302.49.6055; 8302.49.6085; 8302.50.0000; 8302.60.3000; 8302.60.9000; 8305.10.0050; 8306.30.0000; 8414.59.6590; 8415.90.8025; 8415.90.8045; 8415.90.8085; 8418.99.8005; 8418.99.8050; 8418.99.8060; 8419.50.5000; 8419.90.1000; 8422.90.0640; 8424.90.9080; 8473.30.2000; 8473.30.5100; 8479.89.9599; 8479.90.8500; 8479.90.9596 8481.90.9060; 8481.90.9085; 8486.90.0000; 8487.90.0080; 8503.00.9520; 8508.70.0000; 8513.90.2000; 8515.90.2000; 8516.90.5000; 8516.90.8050; 8517.71.0000; 8517.79.0000; 8529.90.7300; 8529.90.9760; 8536.90.8585; 8538.10.0000; 8541.90.0000; 8543.90.8885; 8547.90.0020; 8547.90.0030; 8547.90.0040; 8708.10.3050; 8708.10.60; 8708.29.5160; 8708.80.6590; 8708.99.6890; 8716.80.5010; 8807.30.0060; 9013.90.8000; 9031.90.9195; 9401.99.9081; 9403.10.00; 9403.20.00; 9403.99.1040; 9403.99.9010; 9403.99.9015; 9403.99.9020; 9403.99.9040; 9403.99.9045; 9405.99.4020; 9506.11.4080; 9506.51.4000; 9506.51.6000; 9506.59.4040; 9506.70.2090; 9506.91.0010; 9506.91.0020; 9506.91.0030; 9506.99.0510; 9506.99.0520; 9506.99.0530; 9506.99.1500; 9506.99.2000; 9506.99.2580; 9506.99.2800; 9506.99.5500; 9506.99.6080; 9507.30.2000; 9507.30.4000; 9507.30.6000; 9507.30.8000; 9507.90.6000; 9603.90.8050.

“For any derivative aluminum product that is classified in one of the HTSUS provisions that is listed in this subdivision, the additional ad valorem duty imposed by heading 9903.85.08 shall only apply to the declared value of the aluminum content of the derivative article. The quantity of the aluminum content shall be reported in kg for heading 9903.85.08, in addition to the units provided in chapters 1 through 97 for the derivative aluminum article, in accordance with Statistical Note 1(b) of Chapter 99.”

“(l) Any importer entering the aluminum products covered by this note under heading 9903.85.02, or derivative aluminum products under headings 9903.85.04, 9903.85.07, 9903.85.08 or 9903.85.09 shall provide any information that may be required, and in such form, as is deemed necessary by CBP in order to permit the administration of these headings.

“(m)(A) Effective with respect to goods entered for consumption, or withdrawn from warehouse for consumption, on or after 12:01 a.m. eastern daylight time on March 12, 2025, headings 9903.85.67 and 9903.85.69 provides the ordinary duty treatment of aluminum articles that are products of Russia, as enumerated in subdivision (g) of this note, or where any amount of primary aluminum used in the manufacture of the aluminum articles is smelted in Russia, or where the aluminum articles are cast in Russia. For any such goods that are eligible for special tariff treatment under any of the free trade agreements or preference programs listed in general note 3(c)(i) to the tariff schedule, the duty provided in such headings shall be collected in addition to any special rate of duty otherwise applicable under the appropriate tariff subheading, except where prohibited by law. Any such goods for which entry is claimed under a provision of chapter 98 and which are subject to the additional duties prescribed herein shall be eligible for and subject to the terms of such provision and applicable CBP regulations, except that duties under subheading 9802.00.60 shall be assessed based upon the full value of the imported article. No claim for entry or for any duty exemption or reduction shall be allowed for the aluminum products enumerated in subdivision (g) of this note under a provision of chapter 99 that may set forth a lower rate of duty or provide duty-free treatment, taking into account information supplied by CBP, but any additional duty prescribed in any provision of this subchapter or subchapter IV of chapter 99 shall be imposed in addition to the duty in heading 9903.85.67 or 9903.85.69. All shipments of any such article that is otherwise eligible to be entered under a provision that is subject to quantitative limitations, and where any amount of primary aluminum used in the manufacture of the article is smelted in Russia, or the articles are cast in Russia, shall be entered under headings 9903.85.67 through 9903.85.70. Except as otherwise provided in this subdivision, the duty provided in these headings shall be collected on the full value of the article that contains primary aluminum smelted in Russia, or contains articles cast in Russia.

(B) Effective with respect to goods entered for consumption, or withdrawn from warehouse for consumption, on or after 12:01 a.m. eastern daylight time on March 12, 2025, headings 9903.85.68 and 9903.85.70 provides the ordinary duty treatment of derivative aluminum articles, as enumerated in subdivisions (i), (j) and (k) of this note, that are the product of Russia, or where any amount of primary aluminum used in the manufacture of the derivative aluminum articles is smelted in Russia, or where the derivative aluminum articles are cast in Russia. For any such products that are eligible for special tariff treatment under any of the free trade agreements or preference programs listed in general note 3(c)(i) to the tariff schedule, the duty provided in these headings shall be collected in addition to any special rate of duty otherwise applicable under the appropriate tariff subheading, except where prohibited by law. Derivative aluminum articles for which entry is claimed under a provision of chapter 98 and which are subject to the additional duties prescribed herein shall be eligible for and subject to the terms of such provision and applicable CBP regulations, except that duties under subheading 9802.00.60 shall be assessed based upon the full value of the imported article. No claim for entry or for any exemption or reduction shall be allowed for such derivative aluminum products under a provision of chapter 99 that may set forth a lower rate of duty or provide duty-free treatment, taking into account information supplied by CBP, but any additional duty prescribed in any provision of this subchapter or subchapter IV of chapter 99 shall be imposed in addition to the duty in heading 9903.85.68 or 9903.85.70. All shipments of any such derivative aluminum article that is otherwise eligible to be entered under a provision that is subject to quantitative limitations, and where any amount of primary aluminum used in the manufacture of the derivative aluminum article is smelted in Russia, or the articles are cast in Russia, shall be entered under headings 9903.85.67 through 9903.85.70. Except as otherwise provided in this subdivision, the duty provided in these headings shall be collected on the full value of the article that contains primary aluminum smelted in Russia, or contains articles cast in Russia.”

b. Subchapter III of chapter 99 of the HTSUS is modified by inserting new headings 9903.85.02 through 9903.85.09 in numerical sequence, with the material in the new heading inserted in the columns of the HTSUS labeled “Heading/Subheading”, “Article Description”, “Rates of Duty 1-General”, “Rates of Duty 1-Special” and “Rates of Duty 2”, respectively:

Heading/subheading | Article description | Rates of duty: 1: General | Rates of duty: 1: Special | Rates of duty: 2
“9903.85.02 | Except as provided in headings 9903.85.67 or 9903.85.69, products of aluminum provided for in the tariff headings or subheadings enumerated in subdivision (g) of note 19 to this subchapter | The duty provided in the applicable subheading + 25% | The duty provided in the applicable subheading + 25% | The duty provided in the applicable subheading + 25%.
9903.85.04 | Except as provided in headings 9903.85.68 or 9903.85.70, derivative aluminum products provided for in the tariff headings or subheadings enumerated in subdivision (i) of note 19 to this subchapter | The duty provided in the applicable subheading + 25% | The duty provided in the applicable subheading + 25% | The duty provided in the applicable subheading + 25%.
9903.85.07 | Except as provided in headings 9903.85.09, 9903.85.68 or 9903.85.70, derivative aluminum products, provided for in the tariff provisions enumerated in subdivision (j) of note 19 to this subchapter | The duty provided in the applicable subheading + 25% | The duty provided in the applicable subheading + 25% | The duty provided in the applicable subheading + 25%.
9903.85.08 | Except as provided in heading 9903.85.09, 9903.85.68 or 9903.85.70, derivative aluminum products, provided for in the tariff provisions enumerated in subdivision (k) of note 19 to this subchapter | The duty provided in the applicable subheading + a duty of 25% upon the value of the aluminum content | The duty provided in the applicable subheading + a duty of 25% upon the value of the aluminum content | The duty provided in the applicable subheading + a duty of 25% upon the value of the aluminum content.
9903.85.09 | Except as provided in heading 9903.85.68 or 9903.85.70, derivative aluminum products provided for in the tariff headings and subheadings enumerated in subdivision (j) or subdivision (k) of note 19 to this subchapter, where the derivative aluminum products were processed in another country from aluminum articles that were smelted and cast in the United States | The duty provided in the applicable subheading | The duty provided in the applicable subheading | The duty provided in the applicable subheading”.

c. The article description of heading 9903.85.67 is modified by deleting “note 19(a)(vii)(A) to this subchapter and provided for in the tariff headings or subheadings enumerated in note 19(b) to this subchapter” and by inserting “note 19(a)(vii)(A) to this subchapter, or note 19(m)(A) to this subchapter, as applicable per the date of entry for consumption or withdrawal from warehouse for consumption,” in lieu thereof.

d. The article description of heading 9903.85.68 is modified by deleting “note 19(a)(iii) to this subchapter” and by inserting “note 19(a)(iii) to this subchapter, or notes 19(i), 19(j) or 19(k) to this subchapter, as applicable per the date of entry for consumption or withdrawal from warehouse for consumption ” in lieu thereof.

e. The article description of heading 9903.85.69 is modified by deleting “note 19(a)(vii)(A) to this subchapter and provided for in the tariff headings or subheadings enumerated in note 19(b) to this subchapter” and by inserting “note 19(a)(vii)(A) to this subchapter, or note 19(m)(A) to this subchapter, as applicable per the date of entry for consumption or withdrawal from warehouse for consumption” in lieu thereof;

f. The article description of heading 9903.85.70 is modified by deleting “in note 19(a)(iii) to this chapter” and by inserting “note 19(a)(iii) to this subchapter, or notes 19(i), 19(j) or 19(k) to this subchapter, as applicable per the date of entry for consumption or withdrawal from warehouse for consumption” in lieu thereof.

B. Subdivisions (a) through (e) of note 19 to subchapter III of chapter 99 of the HTSUS and heading 9903.85.01 through subheading 9903.85.66 and headings 9903.85.71 and 9903.85.72 shall continue to apply to goods entered for consumption, or withdrawn from warehouse for consumption, prior to 12:01 a.m. eastern daylight time on March 12, 2025.

C. Subdivision (a)(iii) of note 19 to subchapter III of chapter 99 of the HTSUS is modified by deleting “Heading 9903.85.03” and by inserting “Effective for goods entered for consumption, or withdrawn from warehouse for consumption, prior to 12:01 a.m. eastern daylight time on March 12, 2025, heading 9903.85.03” in lieu thereof.

D. Subdivision (a)(vii)(A) of note 19 to subchapter III of chapter 99 of the HTSUS is modified by deleting “Heading 9903.85.67 and 9903.85.69” and inserting “Effective for goods entered for consumption, or withdrawn from warehouse for consumption, prior to 12:01 a.m. eastern daylight time on March 12, 2025, heading 9903.85.67 and 9903.85.69” in lieu thereof.

E. Subdivision (a)(vii)(B) of note 19 to subchapter III of chapter 99 of the HTSUS is modified by deleting “Heading 9903.85.68 and 9903.85.70” and inserting “Effective for goods entered for consumption, or withdrawn from warehouse for consumption, prior to 12:01 a.m. eastern daylight time on March 12, 2025, heading 9903.85.68 and 9903.85.70” in lieu thereof.

[FR Doc. 2025-03596 Filed 3-3-25; 11:15 am]

BILLING CODE 3510-33-P